FEDERAL COMMUNICATIONS COMMISSION

[Report No. 2900]

Petition for Reconsideration of Action in Rulemaking Proceeding

Oct 15, 2009.

SUMMARY: A Petition for Reconsideration has been filed in the Commission's Rulemaking proceeding listed in this Public Notice and published pursuant to 47 CFR Section 1.429(e). The full text of this document is available for viewing and copying in Room CY-B402, 445 12th Street, SW, Washington, DC or may be purchased from the Commission's copy contractor, Best Copy and Printing, Inc. (BCPI) (1-800-378-3160). Oppositions to this petition must be filed by November 4, 2009. See Section 1.4(b)(1) of the Commission's rules (47 CFR 1.4(b)(1)). Replies to an opposition must be filed within 10 days after the time for filing oppositions has expired.

Subject: In the Matter of Amendment of Parts 73 and 74 of the Commission's Rules to Establish Rules for Replacement Digital Low Power Television Translator Stations (MB Docket No. 08-253)

NUMBER OF PETITIONS FILED: 1

Federal Communications Commission
Marlene H. Dortch,
Secretary.

[FR Doc. E9-25164 Filed 10-19-09; 8:45 am]

BILLING CODE 6712-01-S